DEPARTMENT OF ENERGY

Federal Energy Regulatory Commission

Combined Notice of Filings #1

Take notice that the Commission received the following electric rate filings:

Docket Numbers: ER10-2475-040; ER10-2474-039; ER10-3246-033; ER11-4666-014; ER11-4667-014; ER12-295-013; ER24-1587-009; ER22-1385-020; ER23-674-016; ER23-676-017; ER13-1266-060; ER15-2211-057; ER10-1520-026; ER10-1521-026.

Applicants: Occidental Power Marketing, L.P., Occidental Power Services, Inc., MidAmerican Energy Services, LLC, CalEnergy, LLC, BHE Power Watch, LLC, BHE Wind Watch, LLC, BHER Market Operations, LLC., AlbertaEx, L.P., BHE Rim Rock Wind, LLC, BHE Glacier Wind 2, LLC, BHE Glacier Wind 1, LLC, PacifiCorp, Sierra Pacific Power Company, Nevada Power Company.

Description: Notice of Non-Material Change in Status of Nevada Power Company, et al.

Filed Date: 1/29/26.

Accession Number: 20260129-5574.

Comment Date: 5 p.m. ET 2/19/26.

Docket Numbers: ER11-2029-012; ER10-2595-007; ER12-1400-010; ER10-2468-007; ER10-2596-019; ER10-2597-009; ER10-1821-025; ER12-2200-014; ER10-2598-003; ER14-1219-019; ER21-44-010; ER16-1732-019; ER17-993-018; ER20-660-015; ER18-95-015; ER24-2139-004; ER24-1687-004; ER17-989-018; ER25-1233-004; ER24-2920-003; ER10-1892-028; ER10-1854-025; ER22-425-008; ER17-990-018; ER17-2084-010; ER11-4694-016; ER17-1946-018; ER25-25-004; ER24-438-004; ER25-2508-002; ER10-2739-041; ER11-3320-025; ER12-1680-017; ER22-937-007; ER22-938-007; ER22-1241-007; ER10-2744-026; ER16-2405-019; ER16-2406-020; ER11-113-020; ER23-618-006; ER13-2316-023; ER23-1829-005; ER17-992-018; ER10-2678-025; ER10-1631-025; ER14-19-024; ER20-1440-011; ER20-967-008.

Applicants: Great Bay Solar II, LLC, Yards Creek Energy, LLC, West Deptford Energy, LLC, University Park Energy, LLC, Troy Energy, LLC, Springdale Energy, LLC, Shady Oaks Wind 2, LLC, Seneca Generation, LLC, Sandy Ridge Wind 2, LLC, Sandy Ridge Wind, LLC, Rockford Power, LLC, Rockford Power II, LLC, Riverside Generating Company, L.L.C., REV Energy Marketing, LLC New Market Solar ProjectCo 2, LLC, New Market Solar ProjectCo 1, LLC, Minonk Wind, LLC, LSP University Park, LLC, LS Power Marketing, LLC, LPH Marketing, LLC, Jade Meadow LLC, Hunterstown Generation, LLC, Helix Ironwood, LLC, GSG 6, LLC, Great Bay Solar 1, LLC, Gans Energy, LLC, Enerwise Global Technologies, LLC, Doswell Limited Partnership, Columbia Energy LLC, Clearview Solar I, LLC, Clearlight Energy Services LLC, Chambersburg Energy, LLC, Carvers Creek LLC, Capon Bridge Solar, LLC, Buchanan Energy Services Company, LLC, Bolt Energy Marketing, LLC, Bath County Energy, LLC, Aurora Generation, LLC, Altavista Solar, LLC, Armstrong Power, LLC, Rolling Thunder I Power Partners, LLC, Mehoopany Wind Energy LLC, Goshen Phase II LLC, Fowler Ridge III Wind Farm LLC, Fowler Ridge II Wind Farm LLC, Fowler Ridge Wind Farm LLC, Flat Ridge 2 Wind Energy LLC, Flat Ridge Wind Energy, LLC, Cedar Creek II, LLC.

Description: Notice of Change in Status of Cedar Creek II, LLC, et al.

Filed Date: 1/29/26.

Accession Number: 20260129-5567.

Comment Date: 5 p.m. ET 2/19/26.

Docket Numbers: ER11-4666-013; ER11-4667-013; ER12-295-012; ER23-676-016.

Applicants: BHE Power Watch, LLC, BHE Rim Rock Wind, LLC, BHE Glacier Wind 2, LLC, LLC, BHE Glacier Wind 1, LLC.

Description: Notice of Non-Material Change in Status of BHE Glacier Wind 1, LLC, et al.

Filed Date: 1/29/26.

Accession Number: 20260129-5573.

Comment Date: 5 p.m. ET 2/19/26.

Docket Numbers: ER12-1933-019; ER12-1934-017; ER10-1882-019.

Applicants: Wisconsin River Power Company, Wisconsin Power and Light Company, Interstate Power and Light Company.

Description: Notice of Change in Status of Interstate Power and Light Company, et al. under ER12-1933, et al.

Filed Date: 1/29/26.

Accession Number: 20260129-5571.

Comment Date: 5 p.m. ET 2/19/26.

Docket Numbers: ER15-793-006.

Applicants: Southern Indiana Gas and Electric Company, Inc.

Description: Notice of Change in Status of Southern Indiana Gas and Electric Company, Inc.

Filed Date: 1/29/26.

Accession Number: 20260129-5572.

Comment Date: 5 p.m. ET 2/19/26.

Docket Numbers: ER18-1978-019; ER10-1852-123; ER19-1392-017; ER11-4462-118; ER18-772-018; ER16-1509-008; ER17-838-092; ER10-1951-095; ER11-2192-028; ER25-1410-003; ER22-96-011; ER25-1409-003; ER24-61-008; ER25-2688-002; ER25-3256-002.

Applicants: Windy Lane Energy Center, LLC, Star Light Energy Center, LLC, Sky Ranch Solar, LLC, Sky Ranch Energy Storage II, LLC, Route 66 Solar Energy Center, LLC, Route 66 Energy Storage, LLC, Red Mesa Wind, LLC, NextEra Energy Services Massachusetts, LLC, NextEra Energy Marketing, LLC, New Wave Energy LLC, New Mexico Wind, LLC, NEPM II, LLC, High Lonesome Mesa Wind, LLC, Florida Power & Light Company, Casa Mesa Wind, LLC.

Description: Notice of Non-Material Change in Status of Casa Mesa Wind, LLC, et al.

Filed Date: 1/29/26.

Accession Number: 20260129-5568.

Comment Date: 5 p.m. ET 2/19/26.

Docket Numbers: ER19-192-003.

Applicants: Great Plains Windpark Legacy, LLC.

Description: Notice of Non-Material Change in Status of Great Plains Windpark Legacy, LLC.

Filed Date: 1/29/26.

Accession Number: 20260129-5569.

Comment Date: 5 p.m. ET 2/19/26.

Take notice that the Commission received the following public utility holding company filings:

Docket Numbers: PH26-9-000.

Applicants: Lotus Infrastructure, LLC.

Description: Lotus Infrastructure, LLC submits FERC 65-B Notice of Change in Fact to Waiver Notification.

Filed Date: 1/29/26.

Accession Number: 20260129-5570.

Comment Date: 5 p.m. ET 2/19/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 5, 2026.
Carlos D. Clay,
Deputy Secretary.

[FR Doc. 2026-02604 Filed 2-9-26; 8:45 am]

BILLING CODE 6717-01-P